SMALL BUSINESS ADMINISTRATION

National Small Business Development Center Advisory Board Public Meeting

The U.S. Small Business Administration, National Small Business Development Center (SBDC) Advisory Board, will be hosting a public annual spring meeting to discuss such matters that may be presented by members, and the staff of the U.S. Small Business Administration. The meeting is scheduled for Tuesday, February 28, 2006 from 8 a.m. to 1 p.m. eastern standard time at the SBA Management and Administration Conference Room, 5th Floor, 409 Third Street, SW., Washington, DC 20416.

Anyone wishing to attend the National Small Business Development Center Advisory Board Meeting must contact Erika Fischer, Senior Program Analyst, U.S. Small Business Administration, Office of Small Business Development Centers, 409 3rd Street, SW., Washington, DC 20416, telephone (202) 205-7045 or fax (202) 481-0681.

Antonio Doss,
Associate Administrator, Office of Small Business Development Centers.

[FR Doc. E6-2191 Filed 2-15-06; 8:45 am]

BILLING CODE 8025-01-P